DEPARTMENT OF TRANSPORTATION

Federal Aviation Administration

14 CFR Part 71

[Airspace Docket No. 01-ANM-14]

Revision of Class E Airspace, Logan, UT

AGENCY: Federal Aviation Administration (FAA), DOT.

ACTION: Final rule.

SUMMARY: This action revises the Class E airspace at Logan, UT. A newly developed Area Navigation (RNAV) Standard Instrument Approach Procedure (SIAP) and Departure Procedure (DP) to the Logan-Cache Airport made this action necessary. Additional Class E 700-feet and 1,200-feet controlled airspace, above the surface of the earth is required to contain aircraft conducting IFR operations at Logan-Cache Airport. The intended effect of this proposal is to provide adequate controlled airspace for Instrument Flight Rules (IFR) operations at Logan-Cache Airport, Logan, UT.

EFFECTIVE DATE: 0901 UTC, December 27, 2001.

FOR FURTHER INFORMATION CONTACT: Brian Durham, ANM-520.7, Federal Aviation Administration, Docket No. 00-ANM-14, 1601 Lind Avenue SW., Renton, Washington 98055-4056: telephone number: (425) 227-2527.

SUPPLEMENTARY INFORMATION:

History

On August 14, 2001, the FAA proposed to amend Title 14 Code of Federal Regulations, part 71 (14 CFR part 71) by revising Class E airspace at Logan, UT, in order to provide a safer IFR environment at Logan-Cache Airport, Logan, UT (66 FR 42619). This amendment provides additional Class E5 700-feet and 1,200-feet controlled airspace at Logan, UT, to contain aircraft executing the RNAV (Global Positioning System (GPS) RWY 35 and FELDI RNAV DP at Logan-Cache Airport. Interested parties were invited to participate in the rulemaking proceeding by submitting written comments on the proposal. No comments were received.

The Rule

This amendment to Title 14 Code of Federal Regulations, part 71 (14 CFR part 71) revises Class E airspace at Logan, UT, in order to provide adequate controlled airspace for Instrument Flight Rules (IFR) operations at Logan-Cache Airport, Logan, UT. This amendment revises Class E5 airspace at Logan, UT, to enhance safety and efficiency of IFR flight operations in the Logan, UT, terminal area. The FAA establishes Class E airspace where necessary to contain aircraft transitioning between the terminal and en route environments. This rule is designed to provide for the safe and efficient use of the navigable airspace and to promote safe flight operations under Instrument Flight Rules (IFR) at the Logan-Cache Airport and between the terminal and en route transition stages.

The area will be depicted on aeronautical charts for pilot reference. The coordinates for this airspace docket are based on North American Datum 83. Class E airspace areas extending upward from 700 feet or more above the surface of the earth, are published in Paragraph 6005, of FAA Order 7400.9J dated September 1, 2001, and effective September 16, 2001, which is incorporated by reference in 14 CFR 71.1. The Class E airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated September 1, 2001, and effective September 16, 2001, is amended as follows:

Paragraph 6005 Class E airspace areas extending upward from 700 feet or more above the surface of the earth

* * * * *

ANM UT E5 Logan, UT [Revised]

Logan-Cache Airport, UT

(lat. 41°47′16″ N., long. 111°51′10″ W.)

That airspace extending upward from 700 feet above the surface bounded by a line beginning at lat. 42°03′30″ N., long. 112°00′00″ W.; to lat. 42°02′42″ N., long. 111°46′00″ W.; to lat. 41°07′30″ N., long. 111°46′00″ W.; to lat. 41°07′30″ N., long. 111°57′23″ W.; to lat. 41°47′30″ N., long. 112°03′00″ W.; to lat. 42°01′20″ N., long. 112°03′00″ W.; to lat. 42°03′15″ N., long. 112°00′00″ W.; thence to point of origin; and that airspace extending upward from 1,200 feet above the surface bounded on the north by the south edge of V-4, on the east by long. 111°40′33″ W., on the south by the north edge of V-288, on the west by the east edge of V-21; that airspace extending upward from 10,500 feet MSL bounded on the northeast by the southwest edge of V-142, on the west by long. 111°40′33″ W., and on the south by the north edge of V-288, excluding that airspace within the Evanston, WY, Class E airspace area.

* * * * *

Issued in Washington, DC, on November 6, 2001.
Reginald C. Matthews,
Manager, Airspace and Rules Division.

[FR Doc. 01-28248 Filed 11-8-01; 8:45 am]

BILLING CODE 4910-13-P